DEPARTMENT OF THE TREASURY

Office of Foreign Assets Control

31 CFR Part 587

Publication of Russian Harmful Foreign Activities Sanctions Regulations Determinations

AGENCY: Office of Foreign Assets Control, Treasury.

ACTION: Publication of two determinations.

SUMMARY: The Department of the Treasury's Office of Foreign Assets Control (OFAC) is publishing one determination issued pursuant to a March 11, 2022 Executive Order, as amended on December 22, 2023, and one determination issued pursuant to an April 6, 2022 Executive Order. The determinations were previously issued on OFAC's website.

DATES: The determination pursuant to Executive Order 14068, as amended, and the determination pursuant to Executive Order 14071 were issued on April 12, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On March 11, 2022, the President, invoking the authority of, inter alia, the International Emergency Economic Powers Act (50 U.S.C. 1701 et seq.) (IEEPA), issued Executive Order (E.O.) 14068, “Prohibiting Certain Imports, Exports, and New Investment With Respect to Continued Russian Federation Aggression” (87 FR 14381, March 15, 2022). Among other prohibitions, E.O. 14068 section 1(a)(i) prohibits the importation into the United States of the following products of Russian Federation origin: fish, seafood, and preparations thereof; alcoholic beverages; non-industrial diamonds; and any other products of Russian Federation origin as may be determined by the Secretary of the Treasury, in consultation with the Secretary of State and the Secretary of Commerce.

On December 22, 2023, the President, invoking the authority of, inter alia, IEEPA, issued E.O. 14114, “Taking Additional Steps With Respect to the Russian Federation's Harmful Activities” (88 FR 89271, December 26, 2023). Among other things, E.O. 14114 amends E.O.14068 by striking paragraph (a)(i) of section 1 and inserting, in lieu thereof, new language in subsections (a)(i)(A) through (D).

Section 1(a)(i)(A) of E.O. 14068 as amended prohibits the importation and entry into the United States, including importation for admission into a foreign trade zone located in the United States, of the following products of Russian Federation origin: fish, seafood, and preparations thereof; alcoholic beverages; non-industrial diamonds; and any other products of Russian Federation origin, as may be determined by the Secretary of the Treasury, in consultation with the Secretary of State and the Secretary of Commerce.

On April 6, 2022, the President, invoking the authority of, inter alia, IEEPA, issued E.O. 14071 of April 6, 2022, “Prohibiting New Investment in and Certain Services to the Russian Federation in Response to Continued Russian Federation Aggression” (87 FR 20999, April 8, 2022). Among other prohibitions, section 1(a)(ii) of E.O. 14071 prohibits the exportation, reexportation, sale, or supply, directly or indirectly, from the United States, or by a United States person, wherever located, of any category of services as may be determined by the Secretary of the Treasury, in consultation with the Secretary of State, to any person located in the Russian Federation.

Determination Pursuant to Section 1(a)(i)(A) of E.O. 14068

On April 12, 2024, pursuant to delegated authority, the Director of OFAC, in consultation with the Department of State and the Department of Commerce, issued “Determination Pursuant to Section 1(a)(i)(A) of Executive Order 14068,” which determined that the prohibitions in section 1(a)(i)(A) of E.O. 14068 as amended shall apply to aluminum, copper, and nickel of Russian Federation origin.

Determination Pursuant to Section 1(a)(ii) of E.O. 14071

Also on April 12, 2024, pursuant to delegated authority, the Director of OFAC in consultation with the Department of State issued “Determination Pursuant to Sections 1(a)(ii) of Executive Order 14071,” which determined that the prohibitions in section 1(a)(ii) of E.O. 14071 shall apply to the following categories of services: warranting services for aluminum, copper, or nickel of Russian Federation origin on a global metal exchange; and services to acquire aluminum, copper, or nickel of Russian Federation origin as part of physical settlement of a derivative contract (collectively, “Covered Metals Acquisition Services”).

Each determination was made available on OFAC's website (https://ofac.treasury.gov) when it was issued. The text of these determinations is below.

OFFICE OF FOREIGN ASSETS CONTROL

Determination Pursuant to Section 1(a)(i)(A) of Executive Order 14068

Prohibitions Related to Imports of Aluminum, Copper, and Nickel of Russian Federation Origin

Pursuant to sections 1(a)(i)(A), 1(b), and 5 of Executive Order (E.O.) 14068 of March 11, 2022 (“Prohibiting Certain Imports, Exports, and New Investment With Respect to Continued Russian Federation Aggression”), as amended by E.O. 14114 of December 22, 2023 (“Taking Additional Steps With Respect to the Russian Federation's Harmful Activities”), and 31 CFR 587.802, and in consultation with the Department of State and the Department of Commerce, I hereby determine that the prohibitions in section 1(a)(i)(A) of E.O. 14068 shall apply to aluminum, copper, and nickel of Russian Federation origin.

As a result, the importation and entry into the United States, including importation for admission into a foreign trade zone located in the United States, of aluminum, copper, and nickel of Russian Federation origin is prohibited, except to the extent provided by law, or unless licensed or otherwise authorized by the Office of Foreign Assets Control.

This determination excludes aluminum, copper, and nickel of Russian Federation origin that was produced prior to April 13, 2024.

Bradley T. Smith,

Director, Office of Foreign Assets Control.

April 12, 2024.

OFFICE OF FOREIGN ASSETS CONTROL

Determination Pursuant to Section 1(a)(ii) of Executive Order 14071

Prohibitions on Certain Services for the Acquisition of Aluminum, Copper, or Nickel of Russian Federation Origin

Pursuant to sections 1(a)(ii), 1(b), and 5 of Executive Order (E.O.) 14071 of April 6, 2022 (“Prohibiting New Investment in and Certain Services to the Russian Federation in Response to Continued Russian Federation Aggression”) and 31 CFR 587.802, and in consultation with the Department of State, I hereby determine that the prohibitions in section 1(a)(ii) of E.O. 14071 shall apply to the following categories of services: warranting services for aluminum, copper, or nickel of Russian Federation origin on a global metal exchange; and services to acquire aluminum, copper, or nickel of Russian Federation origin as part of physical settlement of a derivative contract (collectively, “Covered Metals Acquisition Services”).

As a result, the following activities are prohibited, except to the extent provided by law, or unless licensed or otherwise authorized by the Office of Foreign Assets Control:

The exportation, reexportation, sale, or supply, directly or indirectly, from the United States, or by a United States person, wherever located, of any of the Covered Metals Acquisition Services to any person located in the Russian Federation.

This determination excludes Covered Metals Acquisition Services related to aluminum, copper, or nickel that was produced prior to April 13, 2024.

Bradley T. Smith,

Director, Office of Foreign Assets Control.

April 12, 2024.

Bradley T. Smith,
Director, Office of Foreign Assets Control.

[FR Doc. 2024-12372 Filed 6-5-24; 8:45 am]

BILLING CODE 4810-AL-P